DEPARTMENT OF TRANSPORTATION

Federal Highway Administration

Environmental Impact Statement: City of Salem, Polk and Marion Counties, OR

AGENCY: Federal Highway Administration, Oregon Department of Transportation, and City of Salem.

ACTION: Notice of intent.

SUMMARY: The Federal Highway Administration (FHWA) is issuing this notice of intent to advise the public that an Environmental Impact Statement (EIS) will be prepared for solutions to improve mobility across the Willamette River in the City of Salem and Marion and Polk Counties, Oregon.

DATES: Public and Agency scoping meetings will be held in Salem, Oregon during November 2006.

FOR FURTHER INFORMATION CONTACT: Edward J. DeCleva, Environmental Protection Specialist, Federal Highway Administration, The Equitable Building, Suite 100, 530 Center Street NE., Salem, OR 97301, (503) 587-4710.

SUPPLEMENTARY INFORMATION: The FHWA in cooperation with the Oregon Department of Transportation (ODOT) and the City of Salem will prepare an EIS for solutions to improve mobility across the Willamette River in Salem, Oregon. The existing Marion and Center Street bridges in Salem (Oregon Highway 22) are the only vehicular crossings of the Willamette River within the Salem-Keizer urban area. Increasing traffic volumes and continued population growth are causing congestion levels on the bridges and the connecting infrastructure to exceed Oregon Highway Plan mobility standards. Without mobility improvements, congestion is forecast to worsen in the future. Additional information on the Salem River Crossing project can be found on the project Web site at http://www.salemrivercrossing.org.

A reasonable range of alternatives will be considered in the EIS, including alternatives identified in the 2002 Willamette River Crossing Study General Corridor Evaluation that are still valid and meet the project purpose and need. A No Build alternative also will be studied.

The lead agencies will evaluate significant transportation, environmental, social, and economic impacts of the alternatives. Potential areas of impact include: support of State, regional, and local land use and transportation plans and policies, neighborhoods, land use and economics, cultural resources, environmental justice, and natural resources. All impacts will be evaluated for both the construction period and the long-term period of operation. As relevant, measures to avoid, minimize and mitigate any significant impacts, will be developed.

A series of public and agency meetings will be held in Salem, Oregon throughout the EIS study process. In addition, a public hearing will be held. Public notice will be given of the time and place of the meetings and hearing. The draft EIS will be made available for public and agency review and comment prior to the public hearing.

To ensure that the full range of issues related to this proposed action are addressed and all significant issues identified, comments and suggestions are invited from all interested parties. Comments or questions concerning this proposal will be accepted at the public meetings or can be sent to the FHWA at the address provided above or via the project Web site at http://www.salemrivercrossing.org.

(Authority: 23 U.S.C. 315; 49 CFR 1.48)

Dated: November 3, 2006.
Ed DeCleva,
Environmental Protection Specialist, Oregon Division.

[FR Doc. 06-9159 Filed 11-9-06; 8:45 am]

BILLING CODE 4910-22-M